DEPARTMENT OF TRANSPORTATION

Federal Aviation Administration

14 CFR Part 145

[Docket No. FAA-2006-26408, Amdt. No. 145-30A]

RIN 2120-AJ61

Repair Stations

AGENCY: Federal Aviation Administration, DOT.

ACTION: Final rule; correction.

SUMMARY: The Federal Aviation Administration (FAA) is correcting a final rule published in the Federal Register on August 12, 2014, (79 FR 46974). In that rule, the FAA removed a word to address what the agency perceived to be a previous oversight. After publication, and based on information in a petition for rulemaking, the FAA realized that the word should remain. Since the final rule's changes do not become effective until November 10, 2014, this correction will ensure that the word remains in the regulation.

DATES: Effective November 10, 2014.

FOR FURTHER INFORMATION CONTACT: For technical questions concerning this action, contact Susan Traugott, Repair Station Branch (AFS-340), Federal Aviation Administration, 800 Independence Avenue SW., Washington DC, 20591; telephone (214) 277-8534; email Susan.M.Traugott@faa.gov. For legal questions concerning this action, contact Edmund Averman, Office of the Chief Counsel (AGC-210), Federal Aviation Administration, 800 Independence Avenue SW., Washington, DC20591; telephone (202) 267-3147; email Ed.Averman@faa.gov.

SUPPLEMENTARY INFORMATION:

Background

On August 12, 2014, the FAA published a final rule entitled “Repair Stations,” (79 FR 46974). In that rule, among other things, the agency stated it was making a correction to § 145.221(a) to remove what it said was the “erroneous insertion of the word `serious' when addressing the service difficulty reporting requirements from any failure, malfunction, or defect.” We noted that the word “serious” was removed through notice and comment rulemaking in a 2001 final rule entitled “Repair Stations,” (66 FR 41088; August 6, 2001). We stated that the word “serious” had been “inadvertently inserted by a separate final rule entitled `Service Difficulty Reports,” (65 FR 56191, September 15, 2000).”

The agency erred when it stated that the September 15, 2000 final rule erroneously inserted the word “serious” in the repair station rules for service difficulty reporting. The 2000 rule did not insert the word “serious”—it simply retained it in the predecessor defect reporting regulations that the agency was amending for unrelated purposes. Those rules had limited the types of reports required to only those involving defects that were “serious” since at least 1964. In the 2001 amendments, the agency inadvertently omitted the word “serious” in new § 145.221(a). (66 FR 41088; August 6, 2001). The agency restored the term in 2003 correctly, noting that “it was not the FAA's intent to require repair stations to report all failures, malfunctions, and defects.” “Repair Stations: Service Difficulty Reporting,” (68 FR 75380; December. 30, 2003).

On September 22, 2014, eight aviation-related organizations jointly filed a petition for rulemaking with the FAA (Docket No. FAA-2014-0767). Petitioners included: Aeronautical Repair Station Association, Aerospace Industries Association, Aircraft Electronics Association, Airlines for America, Cargo Airline Association, General Aviation Manufacturers Association, National Air Carrier Association, and National Air Transportation Association (collectively, the “Petitioners”). The Petitioners stated that the FAA erred in removing the word “serious” from § 145.221(a). While acknowledging the above-referenced changes cited by the FAA in the 2014 final rule, the Petitioners further noted that the word “serious” was deliberately and correctly reinserted in a December 30, 2003 final rule (68 FR 75381).

After reviewing the 2003 final rule, the FAA agrees with the Petitioners and is instructing the Federal Register not to remove the word “serious” in § 145.221(a).

In FR rule document 2014-18938, appearing on page 46971 in the Federal Register of Tuesday, August 12, 2014, the following correction is made:

§ 145.221 [Corrected]

1. On page 46985, in the first column, in § 145.221, paragraph (a), add the word “serious” before the phrase “failure, malfunction, or defect of an article.”

Issued under authority of 49 U.S.C. 106(f), 44701(a), and 44707 in Washington, DC, on November 4, 2014.
Lirio Liu
Director, Office of Rulemaking.

[FR Doc. 2014-26590 Filed 11-7-14; 8:45 am]

BILLING CODE 4910-13-P